DEPARTMENT OF DEFENSE

Department of Defense Board of Actuaries; Notice of Federal Advisory Committee Meeting

AGENCY: Under Secretary of Defense for Personnel and Readiness, U.S. Department of Defense (DoD).

ACTION: Notice of open Federal Advisory Committee meeting.

SUMMARY: The DoD is publishing this notice to announce that the following Federal Advisory Committee meeting of the Department of Defense Board of Actuaries, hereafter, “Board” will take place.

DATES: Open to the public Friday, July 30, 2021, from 10:00 a.m. to 1:00 p.m.

ADDRESSES: THIS MEETING WILL BE HELD VIRTUALLY. For information on accessing the meeting, please contact Kathleen Ludwig, (703) 438-0223 or Kathleen.A.Ludwig.civ@mail.mil before July 26, 2021 at 12:00 p.m. EDT.

FOR FURTHER INFORMATION CONTACT: Inger Pettygrove, (703) 225-8803 (Voice), inger.m.pettygrove.civ@mail.mil (Email). Mailing address is Defense Human Resources Activity, DoD Office of the Actuary, 4800 Mark Center Drive, STE 03E25, Alexandria, VA 22350-8000. Website: https://actuary.defense.gov/. The most up-to-date changes to the meeting agenda can be found on the website.

SUPPLEMENTARY INFORMATION: Due to circumstances beyond the control of the Department of Defense and the Designated Federal Officer, the Department of Defense Board of Actuaries was unable to provide public notification required by 41 CFR 102-3.150(a) concerning its July 30, 2021 meeting. Accordingly, the Advisory Committee Management Officer for the Department of Defense, pursuant to 41 CFR 102-3.150(b), waives the 15-calendar day notification requirement.

This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of the meeting is for the Board to review DoD actuarial methods and assumptions to be used in the valuations of the Military Retirement Fund, the Voluntary Separation Incentive Fund, and the Education Benefits Fund in accordance with the provisions of Section 183, Section 2006, Chapter 74 (10 U.S.C. 1464 et. seq), and Section 1175 of Title 10, U.S.C.

Agenda: Discussion includes the Military Retirement Fund/VSI Fund ((1) Recent and Proposed Legislation; (2) Briefing on Investment Experience; (3) September 30, 2020, Valuation of the Military Retirement Fund*; (4) Proposed Methods and Assumptions for September 30, 2021, Valuation of the Military Retirement Fund*; and (5) Proposed Methods and Assumptions for September 30, 2020, VSI Fund Valuation.*) and the Education Benefits Fund ((1) Fund Overview; (2) Briefing on Investment Experience (3) September 30, 2020, Valuation Proposed Economic Assumptions*; (4) September 30, 2020, Valuation Proposed Methods and Assumptions—Reserve Programs*; (5) September 30, 2020, Valuation Proposed Methods and Assumptions—Active Duty Programs*; and (6) Developments in Education Benefits. For * items, Board approval is required. Registered participants may obtain the most recent public agenda and other documentation by emailing the points of contact in the FOR FURTHER INFORMATION CONTACT section or on the Board's website.

Meeting Accessibility: Pursuant to FACA and 41 CFR 102-3.140, this meeting is open to the public. Written Statements: In accordance with Section 10(a)(3) of the FACA and 41 CFR 102-3.105(j) and 102-3.140, interested persons may submit a written statement for consideration at any time, but should be received at least 10 business days prior to the meeting date so that the comments may be made available to the Board for their consideration prior to the meeting. Written statements should be submitted via email to Kathleen Ludwig at Kathleen.A.Ludwig.civ@mail.mil, by July 23, 2021, in either Adobe or Microsoft Word format. Please note that since the Board operates under the provisions of the FACA, as amended, all submitted comments and public presentations will be treated as public documents and will be made available for public inspection, including, but not limited to, being posted on the board website.

Dated: July 15, 2021.
Aaron T. Siegel,
Alternate OSD Federal Register Liaison Officer, Department of Defense.

[FR Doc. 2021-15398 Filed 7-19-21; 8:45 am]

BILLING CODE 5001-06-P